DEPARTMENT OF DEFENSE

Department of the Navy

Notice of Public Information Meeting for the Draft Environmental Impact Statement for the Proposed Dredging of the Norfolk Harbor Channel in Norfolk and Portsmouth, VA

AGENCY: Department of the Navy, DoD.

ACTION: Notice.

SUMMARY: Pursuant to section 102(2)(c) of the National Environmental Policy Act (NEPA), and the Council on Environmental Quality regulations implementing the procedural provisions of NEPA (Title 40 Code of Federal Regulations Parts 1500-1508), the Department of the Navy (Navy), in cooperation with the U.S. Army Corps of Engineers (USACE), has prepared and filed with the U.S. Environmental Protection Agency a Draft Environmental Impact Statement (DEIS) on January 8, 2008, to evaluate the environmental consequences of deepening approximately five miles of the Norfolk Harbor Federal Navigational Channel in the Southern Branch of the Elizabeth River, separating Norfolk and Portsmouth, Virginia. Dredging will extend from the Lamberts Point Deperming Station in the Lamberts Bend Reach south to the Norfolk Naval Shipyard (NNSY) in the Lower Reach. A Notice of Intent for this EIS was published in the Federal Register on September 19, 2006, (71 FR 54803).

The Navy will conduct a public information meeting to receive oral and written comments on the DEIS. Federal, state, and local agencies and interested individuals are invited to be present or represented at the public information meeting. This notice announces the date and location of the public information meeting for this DEIS.

Dates and Addresses: An open house public information meeting is scheduled for February 11, 2009, between 3 p.m. and 8 p.m. at the Renaissance Hotel, 425 Water Street, Portsmouth, VA. Information posters will be on display, and representatives from the Navy will be available to explain the proposal, answer questions, and receive comments from the public.

FOR FURTHER INFORMATION CONTACT: Mr. John D. Conway, Project Manager, Naval Facilities Southeast, NAS Jacksonville, Building 135N, Ajax Street, Jacksonville, FL 32212-0030 or telephone: 904-542-6159.

SUPPLEMENTARY INFORMATION: The Norfolk Harbor Channel is the Federal Navigation Channel within the Southern Branch of the Elizabeth River in Norfolk, Portsmouth, and Chesapeake, Virginia. This channel is the only means of nuclear-class aircraft carrier (CVN) access to the Lamberts Bend Deperming Station and NNSY. The current average depth of the Norfolk Harbor Channel from Lamberts Bend to the Lower Reach at NNSY is maintained by the USACE Norfolk District, varying in depth from approximately 40 to 43 feet below mean lower low water (−40 to −43 feet MLLW). The existing channel depths are not sufficient to allow safe, unrestricted access by CVNs to the Lamberts Bend Deperming Station and NNSY and to avoid incidents of fouling and clogging of the cooling systems of the CVNs.

The proposed action would occur solely within the Norfolk Harbor Channel's existing limits and deepen the heavily used waterway at Lamberts Bend to −50 feet MLLW, plus three feet of overdredge for a new depth-in-channel of −53 feet MLLW. The remainder of the channel (Port Norfolk, Town Point, and Lower Reaches) would be deepened to −47 feet MLLW plus three feet of overdredge for a new depth-in-channel of −50 feet MLLW. Overdredge depth is typically needed to ensure project depths and allow a margin of accuracy. The proposed action would bring the Norfolk Harbor Channel in compliance with Naval Sea Systems Command (NAVSEA) water depth requirements for homeports and entrance channels to shipyards, providing CVNs with continuous safe and uninterrupted access to the Lamberts Point Deperming Station and NNSY.

The DEIS evaluates the potential environmental impacts of two action alternatives and the No Action Alternative. Alternative A (the preferred alternative) would implement the proposed dredge depths for aircraft carriers for homeports and entrance channels to shipyards. Alternative B would involve a combination of partial deepening of the Norfolk Harbor Channel and operational restrictions based on tidal activity. It would represent an improvement over the existing situation in that with partial deepening, there is less likelihood of sediment from the river bottom fouling ship systems. However, with only the partial deepening, the carrier movements would still need to wait for high tide conditions to provide the needed water depths below the keel of the carriers. Under both alternatives, dredged materials would meet USACE sediment quality thresholds for disposal at the Craney Island Dredged Materials Management Area (CIDMMA).

Under the No Action Alternative, no deepening of the Norfolk Harbor Channel would occur. The channel would continue to be available at the existing controlling dimensions and access to the deperming station and NNSY would remain restricted for use by carriers.

The DEIS addresses potential environmental impacts on multiple resources, including but not limited to: water resources, air quality, noise, biological resources, cultural resources, traffic, socioeconomics and environmental justice, general services, utilities and infrastructure, and environmental health and safety. With the exception of noise and aesthetics, no significant impacts are identified for any resource area. Potentially significant noise impacts may occur at one receptor (Town Point Park), depending on the actual dredge equipment to be used. The Navy's policy is to comply with local noise ordinances to the maximum extent practicable, therefore mitigation or minimization measures may be implemented, if needed, at Town Point Park. There is also a potential for cumulative visual impacts from implementation of the proposed action due to the need for the USACE to increase the height of dikes surrounding the containment cells at the CIDMMA to maintain capacity.

The DEIS was distributed to Federal, State, and local agencies, elected officials, and interested individuals and organizations. The public comment period will end on March 2, 2009. Copies of the DEIS are available for public review at the following libraries: Norfolk Main Library, 235 East Plume Street, Norfolk, VA; Portsmouth Main Library, 601 Court Street, Portsmouth, VA; Churchland Branch Library, 3215 Academy Avenue, Portsmouth, VA; and the South Norfolk Memorial Library (Chesapeake Public Library System), 1100 Poindexter Street, Chesapeake, VA. The DEIS is also available for electronic public viewing at http://www.NorfolkdredgingEIS.com. An electronic copy of the DEIS may be requested by contacting Caren Hendrickson, Naval Facilities Engineering Command, Mid-Atlantic, telephone: 757-444-1030.

Federal, State, and local agencies, and interested parties are invited to be present or represented at the public information meeting on February 11, 2009. To ensure they become part of the official record, written comments may be submitted at the public information meeting or mailed (with a postmark on or before March 2, 2009) to: Mr. John Conway, EIS Project Manager, Naval Facilities Engineering Command Southeast, NAS Jacksonville, Building 135N, Ajax Street, Jacksonville, FL, 32212-0030. Public comments may also be submitted online during the public comment period at http://www.NorfolkdredgingEIS.com under the “Send Us Your Comments Link”. All comments will be addressed in the Final EIS.

Dated: January 15, 2009.
A. M. Vallandingham,
Lieutenant Commander, Judge Advocate General's Corps, U.S. Navy, Federal Register Liaison Officer.

[FR Doc. E9-1505 Filed 1-22-09; 8:45 am]

BILLING CODE 3810-FF-P